DEPARTMENT OF THE TREASURY

Financial Management Service

Senior Executive Service; Financial Management Service Performance Review Board (PRB)

AGENCY: Financial Management Service, Treasury.

ACTION: Notice.

SUMMARY: This notice announces the appointment of members to the Financial Management Service (EMS) Performance Review Board (PRB).

DATES: This notice is effective on September 22, 2009.

FOR FURTHER INFORMATION CONTACT: Wanda J. Rogers, Deputy Commissioner, Financial Management Service, 401 14th Street, SW., Washington, DC; telephone (202) 874-7000.

SUPPLEMENTARY INFORMATION: Pursuant to U.S.C. 4314(c)(4), this notice is given of the appointment of individuals to serve as members of the FMS PRB. This Board reviews the performance appraisals of career senior executives below the Assistant Commissioner level and makes recommendations regarding ratings, bonuses, and other personnel actions. Four voting members constitute a quorum. The names and titles of the EMS PRB members are as follows:

Primary Members:

Wanda J. Rogers, Deputy Commissioner

Scott H. Johnson, Assistant Commissioner, Debt Management Services

Sheryl R. Morrow, Assistant Commissioner, Federal Finance

Rita Bratcher, Assistant Commissioner, Payment Management

Charles R. Simpson, Assistant Commissioner, Information Resources

D. James Sturgill, Assistant Commissioner, Govermentwide Accounting

David Rebich, Assistant Commissioner, Management (Chief Financial Officer)

Dated: September 8, 2009.
Wanda J. Rogers,
Deputy Commissioner.

[FR Doc. E9-22649 Filed 9-21-09; 8:45 am]

BILLING CODE M